DEPARTMENT OF COMMERCE

National Oceanic and Atmospheric Administration

Agency Information Collection Activities; Submission to the Office of Management and Budget (OMB) for Review and Approval; Comment Request; Permit and Reporting Requirements for Non-Commercial Fishing in the Rose Atoll, Marianas Trench, and Pacific Remote Islands Marine National Monuments (MANM)

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on March 29, 2022 (87 FR 17994) during a 60-day comment period. This notice allows for an additional 30 days for public comments.

Agency: National Oceanic and Atmospheric Administration (NOAA), Commerce.

Title: Permit and Reporting Requirements for Non-commercial Fishing in the Rose Atoll, Marianas Trench, and Pacific Remote Islands Marine National Monuments.

OMB Control Number: 0648-0664.

Form Number(s): None.

Type of Request: Regular (Extension of a current information collection).

Number of Respondents: 15.

Average Hours per Response: 15 minutes per permit application; 20 minutes per fishing log.

Total Annual Burden Hours: 18.6 hours.

Needs and Uses: NMFS manages non-commercial fishing activities in the Rose Atoll, Marianas Trench, and Pacific Remote Islands Marine National Monuments. Regulations at 50 CFR part 665 require the owner and operator of a vessel used to non-commercially fish for, take, retain, or possess any management unit species in these monuments to hold a valid permit issued by NMFS. Regulations also require the owner and operator of a vessel that is chartered to fish recreationally for, take, retain, or possess, any management unit species in these monuments to hold a valid permit issued by NMFS. The fishing vessel must be registered to the permit. The charter business must be established legally in the permit area where it will operate. Charter vessel clients are not required to have a permit.

The permit application collects basic information about the permit applicant, type of operation, vessel, and permit area. NMFS uses this information to confirm the identity of the applicant and determine permit eligibility. The information is important for understanding the nature of the fishery and its participants. It also aids in the enforcement of fishing regulations within the monuments.

Regulations also require the vessel operator to report a complete record of catch, effort, and other data on a NMFS log sheet. The vessel operator must record all requested information on the log sheet within 24 hours of the completion of each fishing day. The vessel operator also must sign, date, and submit the form to NMFS within 30 days of the end of each fishing trip. NMFS uses the information provided in the log sheets to monitor fishing activities, evaluate and assess the status of fish stocks, and determine whether changes in management are needed to sustain the productivity of the fishery and conserve marine resources.

Affected Public: Individuals or households; Business or other for-profit organizations.

Frequency: As required by regulations.

Respondent's Obligation: Mandatory.

Legal Authority: 50 CFR 665.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0664.

Sheleen Dumas,
Department PRA Clearance Officer, Office of the Chief Information Officer, Commerce Department.

[FR Doc. 2022-15344 Filed 7-18-22; 8:45 am]

BILLING CODE 3510-22-P